NATIONAL SCIENCE FOUNDATION

Advisory Committee for Environmental Research and Education

ACTION: Change in notice of meeting.

SUMMARY: The National Science Foundation published a Notice of Meeting in the Federal Register of October 3, 2001, FR Doc. 01-24686, on page 50458. Because of changes in schedules due to the events of September 11, 2001 a revised agenda has been created.

DATES:

October 17, 2001—9 a.m.-5:30 p.m.

October 18, 2001—8 a.m.-2:30 p.m.

CONTACT PERSON: DR. Margaret Cavanaugh, Office of the Director, National Science Foundation, Suite 1205, 4201 Wilson Blvd., Arlington, Virginia 22230. Phone 703/292-8002.

Agenda

October 17—Discussion of directions in interdisciplinary environmental research

October 18—Meeting with the NSF Director; Presentations on environmental activities in Europe; Meeting with Assistant Director for Education and Human Resources

Dated: October 9, 2001.
Susanne Bolton,
Committee Management Officer.

[FR Doc. 01-25767 Filed 10-12-01; 8:45 am]

BILLING CODE 7555-01-M